DEPARTMENT OF TRANSPORTATION

Federal Aviation Administration

14 CFR Part 39

[Docket No. FAA-2005-22110; Directorate Identifier 2004-NM-205-AD]

RIN 2120-AA64

Airworthiness Directives; Airbus Model A300 B4-600 and A300 B4-600R Series Airplanes; and A300 F4-605R and A300 C4-605R Variant F Airplanes

AGENCY: Federal Aviation Administration (FAA), Department of Transportation (DOT).

ACTION: Notice of proposed rulemaking (NPRM).

SUMMARY: The FAA proposes to supersede an existing airworthiness directive (AD) that applies to all Model A300 B4-600 and A300 B4-600R series airplanes, and all Model A300 F4-605R airplanes. The existing AD currently requires repetitive inspections to detect cracks of certain attachment holes, installation of new fasteners, follow-on inspections or repair if necessary, and modification of the angle fittings of fuselage frame FR47. This proposed AD would revise certain inspection thresholds and intervals. This proposed AD would also add inspections to detect cracks of additional attachment holes. This proposed AD is prompted by reports of cracks found before the inspection thresholds in the existing AD and cracks found in nearby areas not inspected by the existing AD. We are proposing this AD to prevent fatigue cracking of the forward fitting of fuselage frame FR47, which could result in reduced structural integrity of the frame.

DATES: We must receive comments on this proposed AD by September 15, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-22110; the directorate identifier for this docket is 2004-NM-205-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-22110; Directorate Identifier 2004-NM-205-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

On May 22, 2002, we issued AD 2002-11-04, amendment 39-12765 (67 FR 38193, June 3, 2002), for all Model A300 B4-600 and A300 B4-600R series airplanes, and all Model A300 F4-605R airplanes. That AD requires repetitive inspections to detect cracks of certain attachment holes, installation of new fasteners, follow-on inspections or repair if necessary, and modification of the angle fittings of fuselage frame FR47. That AD was prompted by reports of cracks found in the internal angle fittings of the wing center box at fuselage frame FR47 on airplanes that had not reached the threshold of the fastener hole inspections required by AD 97-16-06, amendment 39-10097, and cracks found in additional fastener holes that were not required to be inspected by AD 97-16-06. We issued that AD to prevent fatigue cracking of the forward fitting of fuselage frame FR47, which could result in reduced structural integrity of the frame.

Actions Since Existing AD Was Issued

Since we issued AD 2002-11-04, Direction Générale de l'Aviation Civile (DGAC), which is the airworthiness authority for France, issued French airworthiness directive F-2004-159, dated September 29, 2004. That airworthiness directive mandates a new repetitive inspection program for fuselage frame FR47 at certain fasteners of the center wing box angle fitting. Fatigue cracking on the forward fitting of fuselage frame FR47 at the level of the last fastener of the external angle fitting, if not detected and corrected in a timely manner, could result in reduced structural integrity of the airframe.

Relevant Service Information

Airbus has issued Service Bulletin A300-57-6049, Revision 06, dated July 15, 2004. Revision 06 of the service bulletin describes the same procedures specified in Airbus Service Bulletin A300-57-6049, Revision 04, dated July 27, 2000 (Revision 04 was referenced as the appropriate source of service information for performing repetitive rotating probe inspections to detect cracking of the applicable attachment holes on the left and right internal angles of the wing center box; and for doing corrective actions; required by AD 2002-11-04). Revision 06 also specifies performing an inspection to detect cracking of additional holes. In addition, Revision 06 revises certain inspection thresholds and intervals. The service bulletin specifies thresholds ranging approximately from 10,400 flight cycles or 22,450 flight hours, whichever comes first, to 15,350 flight cycles or 23,000 flight hours, whichever comes first, depending on the configuration of the airplane. The service bulletin also specifies repetitive inspection intervals ranging approximately from 4,500 flight cycles or 9,700 flight hours, whichever comes first, to 4,850 flight cycles or 7,300 flight hours, whichever comes first. The service bulletin specifies a grace period of 1,400 flight cycles or 3,500 flight hours for airplanes having between 1,400 flight cycles or 3,500 flight hours below the threshold and 1,900 flight cycles or 4,600 flight hours above the threshold. The service bulletin also specifies a grace period of 700 flight cycles or 1,700 flight hours for airplanes that have exceeded the threshold by more than 1,900 flight cycles or 4,600 flight hours.

Airbus has also issued Service Bulletin A300-57-6086, Revision 01, dated April 2, 2002. Revision 01 of the service bulletin describes the same procedures specified in the original issue of Airbus Service Bulletin A300-57-6086, dated June 6, 2000 (the original issue was referenced as the appropriate source of service information for doing repetitive inspections to detect cracking of the applicable attachment holes in the horizontal flange of the internal corner angle fitting of fuselage frame FR47, and for doing corrective actions, required by AD 2002-11-04). Revision 01 of the service bulletin also revises a grace period for a threshold. Revision 01 of the service bulletin specifies a threshold of 13,400 flight cycles or 34,600 flight hours, whichever occurs first. The service bulletin also specifies repetitive intervals of 6,900 flight cycles or 17,700 flight hours, whichever occurs first. The service bulletin specifies a grace period of 1,400 flight cycles or 3,500 flight hours for airplanes having between 1,400 flight cycles or 3,500 flight hours below the threshold and 2,000 flight cycles or 5,000 flight hours above the threshold. The service bulletin specifies a grace period of 750 flight cycles or 1,700 flight hours for airplanes having exceeded the threshold by more than 2,000 flight cycles or 5,000 flight hours.

Airbus has also issued Service Bulletin A300-57-6050, Revision 03, dated May 31, 2001. Revision 03 describes the same procedures specified in Airbus Service Bulletin A300-57-6050, Revision 02, dated February 10, 2000 (Revision 02 was referenced as the appropriate source of service information for doing the modification of the left and right internal angle fittings of the wing center box required by AD 2002-11-04). Revision 03 of the service bulletin specifies a threshold of 15,100 flight cycles or 38,900 flight hours.

Accomplishing the actions specified in the service information is intended to adequately address the unsafe condition.

The DGAC mandated the service information and issued French airworthiness directive F-2004-159, dated September 29, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States. This proposed AD would supersede AD 2002-11-04. This proposed AD would require accomplishing the actions specified in the service bulletins described previously, except as described in “Differences Between the Proposed AD, Relevant Service Information, and French Airworthiness Directive.”

Differences Between the Proposed AD, Relevant Service Information, and French Airworthiness Directive

As stated previously in AD 2002-11-04, we find that for this proposed AD that all touch-and-go landings must be counted in determining the total number of landings between two consecutive inspections. Airbus Service Bulletin A300-57-6049, Revision 06, dated July 15, 2004, and Airbus Service Bulletin A300-57-6086, Revision 01, dated April 2, 2002, specify that operators need not count touch-and-go landings in determining the total number of landings between two consecutive inspections, when those landings are less than five percent of the landings between inspection intervals. Since fatigue cracking on the forward fitting of fuselage frame FR47 at the level of the last fastener of the external angle fitting is aggravated by landing, all touch-and-go landings must be counted.

Although Airbus Service Bulletin A300-57-6049, Revision 06, dated July 15, 2004; and Airbus Service Bulletin A300-57-6086, Revision 01, dated April 2, 2002; specify to submit certain information to the manufacturer, this proposed AD would not require those actions. We do not need this information from operators.

Where any of the service bulletins specify to contact the manufacturer for disposition of certain corrective actions, this proposed AD would require repair in accordance with a method approved by either the Manager, International Branch, ANM-116, FAA, Transport Airplane Directorate, or the Direction Générale de l'Aviation Civile (DGAC) (or its delegated agent). In light of the type of repair that would be required to address the unsafe condition, and consistent with existing bilateral airworthiness agreements, we have determined that, for this proposed AD, a repair we or the DGAC approve would be acceptable for compliance with this proposed AD.

These differences have been coordinated with the DGAC.

Costs of Compliance

The following table provides the estimated costs for U.S. operators to comply with this proposed AD.

Estimated Costs
Action | Work hours | Average labor rate per hour | Parts | Cost per airplane | Number of U.S.-registered airplanes | Fleet cost
Inspection Airbus per Service Bulletin A300-57-6049 | 13 | $65 | $0 | $845 | 74 | $62,530, per inspection cycle.
Inspection per Airbus Service Bulletin A300-57-6086 | 30 | $65 | $6,637-$19,091 | $8,587-$21,041, per inspection cycle | 74 | $635,438-$1,557,034, per inspection cycle.
Modification per Airbus Service Bulletin A300-57-6050 | 65-365 | $65 | $3,370 | $7,595-$27,095 | 74 | $562,030-$2,005,030.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12765 (67 FR 38193, June 3, 2002) and adding the following new airworthiness directive (AD):

Airbus: Docket No. FAA-2005-22110; Directorate Identifier 2004-NM-205-AD.

Comments Due Date

(a) The Federal Aviation Administration must receive comments on this AD action by September 15, 2005.

Affected ADs

(b) This AD supersedes AD 2002-11-04, amendment 39-12765.

Applicability

(c) This AD applies to Airbus Model A300 B4-601, B4-603, B4-620, and B4-622 airplanes; Model A300 B4-605R and B4-622R airplanes; A300 F4-605R airplanes; and A300 C4-605R Variant F airplanes; certificated in any category; except airplanes on which Airbus modification 12171 or 12249 has been accomplished or on which Airbus Service Bulletin A300-57-6069 has been accomplished.

Unsafe Condition

(d) This AD was prompted by reports of cracks found before the inspection thresholds in the existing AD and cracks found in nearby areas not inspected by the existing AD. We are issuing this AD to prevent fatigue cracking of the forward fitting of fuselage frame FR47, which could result in reduced structural integrity of the frame.

Compliance

(e) You are responsible for having the actions required by this AD performed within the compliance times specified, unless the actions have already been done.

Inspections for Attachment Holes on the Internal Angles of the Wing Center Box, and Corrective Action

(f) Perform a rotating probe inspection to detect cracking of the applicable attachment holes on the left and right internal angles of the wing center box in accordance with the Accomplishment Instructions of Airbus Service Bulletin A300-57-6049, Revision 06, dated July 15, 2004. Do the inspection at the applicable time specified by paragraph 1.E.(2), Accomplishment Timescale, of Revision 06 of the service bulletin, except as required by paragraph (m) of this AD. Repeat the rotating probe inspection specified in this paragraph thereafter at intervals not to exceed the applicable interval specified in Revision 06 of the service bulletin, except that all touch-and-go landings must be counted in determining the total number of flight cycles between consecutive inspections.

(g) If no cracking is found during any inspection required by paragraph (f) of this AD: Prior to further flight, install new fasteners in accordance with the Accomplishment Instructions of Airbus Service Bulletin A300-57-6049, Revision 06, dated July 15, 2004.

(h) If any cracking is found during any inspection required by paragraph (f) of this AD: Prior to further flight, perform applicable corrective actions (including reaming, drilling, drill-stopping holes, chamfering, performing follow-on inspections, and installing new or oversize fasteners) in accordance with the Accomplishment Instructions of Airbus Service Bulletin A300-57-6049, Revision 06, dated July 15, 2004, except as required by paragraph (n) of this AD.

Inspections for Attachment Holes in the Horizontal Flange of the Internal Corner Angle Fitting of Fuselage Frame FR47, and Corrective Action

(i) Perform a rotating probe inspection to detect cracking of the applicable attachment holes in the horizontal flange of the internal corner angle fitting of fuselage frame FR47, in accordance with the Accomplishment Instructions of Airbus Service Bulletin A300-57-6086, Revision 01, dated April 2, 2002. Do the inspection at the applicable time specified in paragraph 1.E., Compliance, of Airbus Service Bulletin A300-57-6086, Revision 01, dated April 2, 2002, except as provided by paragraph (m) of this AD; or within 1,500 flight cycles after July 8, 2002 (the effective date of AD 2002-11-04, amendment 39-12765); whichever occurs later. Repeat the rotating probe inspection specified in this paragraph thereafter at intervals not to exceed the applicable interval specified in Airbus Service Bulletin A300-57-6086, dated June 6, 2000, except that all touch-and-go landings must be counted in determining the total number of flight cycles between consecutive inspections.

(j) If no cracking is found during any inspection required by paragraph (i) of this AD: Prior to further flight, install new fasteners in accordance with the service bulletin.

(k) If any cracking is found during any inspection required by paragraph (i) of this AD: Prior to further flight, perform applicable corrective actions (including inspecting hole T, reaming the holes, and installing oversize fasteners) in accordance with the service bulletin, except as required by paragraph (n) of this AD.

Modification of Angle Fittings of the Wing Center Box

(l) Modify the left and right internal angle fittings of the wing center box. The modification includes performing a rotating probe inspection to detect cracking, repairing cracks, cold expanding holes, and installing medium interference fitting bolts. Perform the modification in accordance with Revision 03, dated May 31, 2001; and at the applicable time specified by paragraph 1.B.(4), Accomplishment Timescale, of Airbus Service Bulletin A300-57-6050, Revision 03, dated May 31, 2001; except as required by paragraphs (m) and (n) of this AD.

Exceptions to Specifications in Service Bulletins

(m) Where the service bulletins specified in paragraphs (f), (i), and (l) of this AD specify a grace period relative to receipt of the service bulletin, this AD requires compliance within the applicable grace period following the effective date of this AD, if the threshold has been exceeded.

(n) If any crack is detected during any inspection required by this AD, and the applicable service bulletin specifies to contact the manufacturer for disposition of certain corrective actions: Prior to further flight, repair in accordance with a method approved by either the Manager, International Branch, ANM-116, FAA, Transport Airplane Directorate, or the Direction Générale de l'Aviation Civile (DGAC) (or its delegated agent).

Actions Accomplished According to Previous Issue of Service Bulletins

(o) Actions accomplished prior to the effective date of this AD in accordance with Airbus Service Bulletin A300-57-6086, dated June 6, 2000, are acceptable for compliance with the requirements of paragraph (i) of this AD.

(p) Modifications accomplished prior to the effective date of this AD in accordance with Airbus Service Bulletin A300-57-6050, Revision 02, dated February 10, 2000; are acceptable for compliance with the requirements of paragraph (l) of this AD.

No Reporting Requirement

(q) Although Airbus Service Bulletin A300-57-6049, Revision 06, dated July 15, 2004; and Airbus Service Bulletin A300-57-6086, Revision 01, dated April 2, 2002; specify to submit certain information to the manufacturer, this AD does not include that requirement.

Alternative Methods of Compliance (AMOCs)

(r)(1) The Manager, International Branch, ANM-116, FAA, Transport Airplane Directorate, has the authority to approve AMOCs for this AD, if requested in accordance with the procedures found in 14 CFR 39.19.

(2) AMOCs approved previously according to AD 2002-11-04, amendment 39-12765, are not approved as AMOCs with this AD.

Related Information

(s) French airworthiness directive F-2004-159, dated September 29, 2004, also addresses the subject of this AD.

Issued in Renton, Washington, on August 8, 2005.
Ali Bahrami,
Manager, Transport Airplane Directorate, Aircraft Certification Service.

[FR Doc. 05-16178 Filed 8-15-05; 8:45 am]

BILLING CODE 4910-13-P